DEPARTMENT OF THE INTERIOR

Bureau of Indian Affairs

Information Collection for Tribal Energy Development Capacity Program; Comment Request

AGENCY: Bureau of Indian Affairs, Interior.

ACTION: Notice of Submission to the Office of Management and Budget.

SUMMARY: As required by the Paperwork Reduction Act, the Office of Indian Energy and Economic Development (IEED) is submitting a proposed information collection related to funds provided under the Tribal Energy Development Capacity (TEDC) program to the Office of Management and Budget (OMB) for review. Indian tribes, including Alaska Native regional and village corporations, may be considered for funding under the TEDC if they provide certain information as part of an application. Once an application is accepted, the Indian tribe must then submit reports regarding the progress of their project. This notice requests comments on the information collection associated with the application and progress reports.

DATES: Submit comments on or before May 23, 2011.

ADDRESSES: You may submit comments on the information collection to the Desk Officer for the Department of the Interior at the Office of Management and Budget, by facsimile to (202) 395-5806 or you may send an e-mail to: OIRA_DOCKET@omb.eop.gov. Please send a copy of your comments to Ashley Stockdale, Department of the Interior, Office of Indian Energy and Economic Development, Room 20—South Interior Building, 1951 Constitution Avenue, NW., Washington, DC 20245, fax (202) 208-4564; e-mail: Ashley.Stockdale@bia.gov.

FOR FURTHER INFORMATION CONTACT: Ashley Stockdale (202) 219-0740. You may review the ICR online at http://www.reginfo.gov. Follow the instructions to review Department of the Interior collections under review by OMB.

SUPPLEMENTARY INFORMATION:

I. Abstract

The Energy Policy Act of 2005 authorizes the Secretary of the Interior to provide assistance to Indian tribes for energy development and appropriates funds for such projects on a year-to-year basis. See 25 U.S.C. 3502. When funding is available, the Office of IEED may solicit proposals for projects for building capacity for tribal energy resource development on Indian land from Indian tribes, including Alaska Native regional and village corporations under the TEDC program. For the purposes of this program, “Indian land” includes: all land within the boundaries of an Indian reservation, pueblo, or rancheria; any land outside those boundaries that is held by the United States in trust for a tribe or individual Indian or by a tribe or individual Indian with restrictions on alienation; and land owned by an Alaska Native regional or village corporation.

Tribes may use the contracting mechanism established by the Indian Self-Determination Act or may receive the money through adjustments to their funding from the Office of Self-Governance. See 25 U.S.C. 450 et seq. Indian tribes that would like to submit a TEDC project proposal must submit an application that includes certain information and, once funding is received, must submit reports on how they are using the funding. A complete application must contain the following elements:

• A formal signed resolution of the governing body of the tribe;

• A proposal describing the planned activities and deliverable products; and

• A detailed budget estimate, including contracted personnel costs, travel estimates, data collection and analysis costs, and other expenses.

The project proposal must include information about the tribe sufficient to allow IEED to evaluate the proposal based on the following criteria:

(a) Energy resource potential;

(b) Tribe's energy resource development history and current status;

(c) Tribe's existing energy resource development capabilities;

(d) Demonstrated willingness of the tribe to develop independent energy resource development business entity;

(e) Intent to develop and retain energy development capacity within tribal government or business entities; and

(f) Tribal commitment of staff, training, or monetary resources.

The IEED requires this information to ensure that it provides funding only to those projects that meet the goals of the TEDC and the purposes for which Congress provides the appropriations.

The Paperwork Reduction Act of 1995 provides an opportunity for interested parties to comment on proposed information collection requests. The IEED is proceeding with this public comment period to obtain an information collection clearance from OMB.

II. Request for Comments

The IEED requests your comments on this collection concerning: (a) The necessity of this information collection for the proper performance of the functions of the agency, including whether the information will have practical utility; (b) The accuracy of the agency's estimate of the burden (hours and cost) of the collection of information, including the validity of the methodology and assumptions used; (c) Ways we could enhance the quality, utility and clarity of the information to be collected; and (d) Ways we could minimize the burden of the collection of the information on the respondents, such as through the use of automated collection techniques or other forms of information technology.

Please note that an agency may not conduct or sponsor, and an individual need not respond to, a collection of information unless it has a valid OMB Control Number.

It is our policy to make all comments available to the public for review at the location listed in the ADDRESSES section. Before including your address, phone number, e-mail address or other personally identifiable information, be advised that your entire comment—including your personally identifiable information—may be made public at any time. While you may request that we withhold your personally identifiable information, we cannot guarantee that we will be able to do so.

III. Data

OMB Control Number: 1076-0XXX.

Type of Review: New.

Title: Tribal Energy Development Capacity Program Grants.

Brief Description of Collection: Indian tribes that would like to apply for TEDC funding must submit an application that includes certain information. A complete application must contain a formal signed resolution of the governing body of the tribe, a proposal describing the planned activities and deliverable products; and a detailed budget estimate, including contracted personnel costs, travel estimates, data collection and analysis costs, and other expenses. The IEED requires this information to ensure that it provides funding only to those projects that meet the goals of the TEDC program and purposes for which Congress provides the appropriation. Upon acceptance of an application, a tribe must then submit one- to two-page quarterly progress reports summarizing events, accomplishments, problems and/or results in executing the project. The IEED estimates that approximately 20 tribes will apply each year, and that IEED will accept approximately 10 of those applicants into the program.

Respondents: Indian tribes under 25 U.S.C. 3502.

Number of Respondents: 20 applicants per year; 10 project participants each year.

Estimated Time per Response: 40 hours per application; 1.5 hours per progress report.

Frequency of Response: Once per year for applications; 4 times per year for progress reports.

Total Annual Burden to Respondents: 860 hours (800 for applications and 60 for progress reports).

Dated: April 11, 2011.
Alvin Foster,
Acting Chief Information Officer—Indian Affairs.

[FR Doc. 2011-9666 Filed 4-20-11; 8:45 am]

BILLING CODE 4310-4J-P